DEPARTMENT OF ENERGY

Federal Energy Regulatory Commission

Combined Notice of Filings #1

May 10, 2006.

Take notice that the Commission received the following electric rate filings.

Docket Numbers: ER02-2134-004.

Applicants: Just Energy, LLC.

Description: Just Energy, LLC submits its triennial market power analysis and market-based rate compliance filing pursuant to FERC's August 14, 2002 order.

Filed Date: May 1, 2006.

Accession Number: 20060508-0163.

Comment Date: 5 p.m. Eastern Time on Monday, May 22, 2006.

Docket Numbers: ER02-2151-002.

Applicants: Just Energy Ohio, LLC.

Description: Just Energy Ohio, LLC submits its triennial market power analysis and market-based rate compliance filings pursuant to FERC's August 20, 2002 order.

Filed Date: May 1, 2006.

Accession Number: 20060508-0155.

Comment Date: 5 p.m. Eastern Time on Monday, May 22, 2006.

Docket Numbers: ER03-99-002.

Applicants: Just Energy New York, LLC.

Description: Just Energy New York, LLC submits its triennial market power analysis and market power analysis and market-based rate compliance filing pursuant to FERC's December 2, 2002 order.

Filed Date: May 1, 2006.

Accession Number: 20060508-0164.

Comment Date: 5 p.m. Eastern Time on Monday, May 22, 2006.

Docket Numbers: ER03-100-002.

Applicants: Just Energy Texas, LLC.

Description: Just Energy Texas, LLC submits its triennial market power analysis and market-based rate compliance filing pursuant to FERC's December 2, 2002 order.

Filed Date: May 1, 2006.

Accession Number: 20060508-0154.

Comment Date: 5 p.m. Eastern Time on Monday, May 22, 2006.

Docket Numbers: ER03-552-012; ER03-984-010.

Applicants: New York Independent System Operator, Inc.

Description: New York Independent System Operator, Inc submits its compliance report pursuant FERC's February 22, 2006 order.

Filed Date: April 24, 2006.

Accession Number: 20060426-5039.

Comment Date: 5 p.m. Eastern Time on Monday, May 15, 2006.

Docket Numbers: ER04-23-017.

Applicants: Devon Power LLC; Montville Power LLC and Middletown Power LLC.

Description: Devon Power LLC et al. submit its second annual informational filing pursuant to Paragraph II.5 of the Settlement Agreement filed on November 2, 2004.

Filed Date: March 1, 2006.

Accession Number: 20060303-0171.

Comment Date: 5 p.m. Eastern Time on Monday, May 22, 2006.

Docket Numbers: ER05-1178-003; ER05-1191-003.

Applicants: Gila River Power, L.P.; Union Power Partners, L.P.

Description: Gila River Power, LP et al. submit a notice of non-material change in status relating to their upstream ownership structure pursuant to section 35.27(c) of FERC's Rules and Regulations.

Filed Date: May 1, 2006.

Accession Number: 20060508-0153.

Comment Date: 5 p.m. Eastern Time on Monday, May 22, 2006.

Docket Numbers: ER06-406-002.

Applicants: PJM Interconnection, L.L.C.

Description: PJM Interconnection, LLC submits an informational filing pursuant to the Commission's February 24, 2006 order.

Filed Date: April 25, 2006.

Accession Number: 20060425-5041.

Comment Date: 5 p.m. Eastern Time on Tuesday, May 16, 2006.

Docket Numbers: ER06-771-001; ER06-772-001; ER06-773-001.

Applicants: ExxonMobil Baton Rouge Complex; ExxonMobil Beaumont Complex; ExxonMobil LaBarge Shute Creek Treating Facility.

Description: ExxonMobil Baton Rouge Complex, et al. submits an supplement to its order accepting initial market based rate tariff and granting certain waivers and blankets approvals filed March 17, 2006.

Filed Date: May 1, 2006.

Accession Number: 20060508-0165.

Comment Date: 5 p.m. Eastern Time on Monday, May 22, 2006.

Docket Numbers: ER06-901-000; ER06-686-001.

Applicants: DeGreeff DP, LLC.

Description: DeGreeff DP, LLC submits a notice of non-material change in status in compliance with Order 652 and an tariff amendment.

Filed Date: April 25, 2006.

Accession Number: 20060501-0373.

Comment Date: 5 p.m. Eastern Time on Tuesday, May 16, 2006.

Docket Numbers: ER06-903-000.

Applicants: Alcoa Power Generating Inc.

Description: Aloca Power Generating, Inc submits its First Revised FERC Electric Rate Schedule 13, a transmission service agreement with Cedar Rapids Transmission Co.

Filed Date: April 24, 2006.

Accession Number: 20060508-0161.

Comment Date: 5 p.m. Eastern Time on Monday, May 15, 2006.

Docket Numbers: ER06-918-000.

Applicants: Unitil Power Corp.

Description: Unitil Power Corp submits its statement of all billing transactions under the amended Unitil System Agreement for the period January 1, 2005 through December 31, 2005.

Filed Date: May 1, 2006.

Accession Number: 20060508-0168.

Comment Date: 5 p.m. Eastern Time on Monday, May 22, 2006.

Docket Numbers: ER06-919-000.

Applicants: Southern Companies.

Description: Southern Company Services, Inc submits an informational filing to true-up the charges that were collected for transmission service under its OATT during calendar year 2005.

Filed Date: May 1, 2006.

Accession Number: 20060508-0207.

Comment Date: 5 p.m. Eastern Time on Monday, May 22, 2006.

Docket Numbers: ER06-920-000.

Applicants: Pacific Gas and Electric Company.

Description: Pacific Gas and Electric Co submits a true-up of energy rates under contract 14-06-200-2948-A, for the sale, interchange and transmission of electric capacity and energy.

Filed Date: May 1, 2006.

Accession Number: 20060508-0058.

Comment Date: 5 p.m. Eastern Time on Monday, May 22, 2006.

Docket Numbers: ER06-921-000.

Applicants: Westar Energy, Inc.

Description: Westar Energy, Inc submits its Fourth Revised Sheet No. 11 of Second Revised Rate Schedule No. 300 with Missouri Joint Municipal Electric Utility Commission to extend its agreement 31 days.

Filed Date: May 1, 2006.

Accession Number: 20060508-0169.

Comment Date: 5 p.m. Eastern Time on Monday, May 22, 2006.

Docket Numbers: ER06-922-000.

Applicants: Appalachian Power Company.

Description: Appalachian Power Co submits a cost-based formula rate agreement for full requirements electric service dated April 24, 2006 with the City of Radford, VA.

Filed Date: May 1, 2006.

Accession Number: 20060508-0208.

Comment Date: 5 p.m. Eastern Time on Monday, May 22, 2006.

Docket Numbers: ER06-923-000.

Applicants: Avista Corporation.

Description: Avista Corp submits its First Revised Sheet 8 et al. to first revised FERC rate schedule no. 184 with Bonneville Power Administration.

Filed Date: April 28, 2006.

Accession Number: 20060508-0170.

Comment Date: 5 p.m. Eastern Time on Friday, May 19, 2006.

Docket Numbers: ER06-924-000.

Applicants: Westar Energy, Inc.

Description: Westar Energy, Inc submits its Third Revised Sheet 9 of Rate Schedule 302 with Missouri Joint Municipal Electric Utility Commission.

Filed Date: May 2, 2006.

Accession Number: 20060508-0171.

Comment Date: 5 p.m. Eastern Time on Tuesday, May 23, 2006.

Docket Numbers: ER06-925-000.

Applicants: Westar Energy, Inc.

Description: Westar Energy, Inc submits its Third Revised Sheet 11 of Rate Schedule 303 with Missouri Joint Municipal Electric Utility Commission.

Filed Date: May 2, 2006.

Accession Number: 20060508-0172.

Comment Date: 5 p.m. Eastern Time on Tuesday, May 23, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-7486 Filed 5-16-06; 8:45 am]

BILLING CODE 6717-01-P